DEPARTMENT OF AGRICULTURE

Grain Inspection, Packers and Stockyards Administration

9 CFR Part 201

RIN 0580-AB26

Poultry Grower Ranking Systems

AGENCY: Grain Inspection, Packers and Stockyards Administration, USDA

ACTION: Proposed rule: Extension of comment period.

SUMMARY: Consistent with the memorandum of January 20, 2017, to the heads of executive departments and agencies from the Assistant to the President and Chief of Staff entitled “Regulatory Freeze Pending Review,” the Department of Agriculture's Grain Inspection, Packers and Stockyards Administration (GIPSA) is extending by 30 days the public comment period for this proposed rule, which was published on December 20, 2016.

This proposed rule identifies criteria that the Secretary may consider when determining whether a live poultry dealer's use of a poultry grower ranking system for ranking poultry growers for settlement purposes is unfair, unjustly discriminatory, or deceptive or gives an undue or unreasonable preference, advantage, prejudice, or disadvantage. The proposed amendments also clarify that absent demonstration of a legitimate business justification, failing to use a poultry grower ranking system in a fair manner after applying the identified criteria is unfair, unjustly discriminatory, or deceptive and a violation of section 202(a) of the Packers and Stockyards Act, 1921, as amended and supplemented (P&S Act), regardless of whether it harms or is likely to harm competition.

DATES: The comment period for the proposed rule published at 81 FR 92723 on December 20, 2016 is extended. Comments must be received on or before March 24, 2017.

ADDRESSES: We invite you to submit comments on this proposed rule by any of the following methods:

• Mail: M. Irene Omade, GIPSA, USDA, 1400 Independence Avenue SW., Room 2542A-S, Washington, DC 20250-3613.

• Hand Delivery or Courier: M. Irene Omade, GIPSA, USDA, 1400 Independence Avenue SW., Room 2530-S, Washington, DC 20250-3613.

• Internet: http://www.regulations.gov. Follow the on-line instructions for submitting comments.

Instructions: All comments should make reference to the date and page number of this issue of the Federal Register. All comments received will be included in the public docket without change, including any personal information provided. Regulatory analyses and other documents relating to this rulemaking will be available for public inspection in Room 2542A-S, 1400 Independence Avenue SW., Washington, DC 20250-3613 during regular business hours. All comments will be available for public inspection in the above office during regular business hours (7 CFR 1.27(b)). Please call the Management and Budget Services staff of GIPSA at (202) 720-8479 to arrange a public inspection of comments or other documents related to this rulemaking.

FOR FURTHER INFORMATION CONTACT: S. Brett Offutt, Director, Litigation and Economic Analysis Division, P&SP, GIPSA, 1400 Independence Ave. SW., Washington, DC 20250, (202) 720-7051, s.brett.offutt@usda.gov.

SUPPLEMENTARY INFORMATION: Consistent with the memorandum of January 20, 2017, to the heads of executive departments and agencies from the Assistant to the President and Chief of Staff entitled “Regulatory Freeze Pending Review,” GIPSA is extending by 30 days the public comment period of the proposed rule entitled “Poultry Grower Ranking Systems” that was published in the Federal Register on December 20, 2016, (81 FR 92723).

GIPSA previously published a notice of proposed rulemaking on June 22, 2010 (75 FR 35338), which included requirements regarding a live poultry dealer's use of a poultry grower ranking system when determining payment for grower services. That proposed rule would have required live poultry dealers paying growers on a tournament system to pay growers raising the same type and kind of poultry the same base pay and further required that growers be settled in groups with other growers with like house types. Upon review of public comments received both in writing and through public meetings held during the comment period in 2010, we elected not to publish this rule as a final rule, but rather have modified proposed § 201.214 and published it as a proposed rule and requested further public comment.

Authority: 7 U.S.C. 181-229c.

Marianne Plaus,
Acting Administrator, Grain Inspection, Packers and Stockyards Administration.

[FR Doc. 2017-02497 Filed 2-6-17; 8:45 am]

BILLING CODE 3410-KD-P